DEPARTMENT OF LABOR

Employment and Training Administration

[TA-W-41,183 and NAFTA-05987]

Alcoa Lebanon Works, A Division of Alcoa, Inc.; Lebanon, PA; Notice of Negative Determination Regarding Application for Reconsideration

By application of August 9, 2002 and August 10, 2002 (postmark dates), the petitioners requested administrative reconsideration of the Department's negative determination regarding eligibility for workers and former workers of the subject firm to apply for Trade Adjustment Assistance (TAA) under petition TA-W-41,183 and North American Free Trade Agreement-Transitional Adjustment Assistance (NAFTA-TAA) under petition NAFTA-5987. The TAA and NAFTA-TAA denial notices applicable to workers of Alcoa Lebanon Works, A Division of Alcoa, Inc., Lebanon, Pennsylvania were signed on July 5, 2002 and published in the Federal Register on July 22, 2002 (67 FR 47861 and 47682, respectively).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Alcoa Lebanon Works, A Division of Alcoa, Inc., Lebanon, Pennsylvania, was denied because the “contributed importantly” group eligibility requirement of Section 222(3) of the Trade Act of 1974, as amended, was not met. The “contributed importantly” test is generally demonstrated through a survey of the workers' firm's customers. The survey revealed that the customers did not increase their imports of light gauge steel products and foil products, while decreasing their purchases from the subject firm during the relevant period. The workers produced light gauge steel products and foil products.

The NAFTA-TAA petition for the same worker group was denied because criteria (3) and (4) of the group eligibility requirements in paragraph (a)(1) of Section 250 of the Trade Act, as amended, were not met. There was no shift in production from the workers' firm to Mexico or Canada during the relevant period. Imports from Canada or Mexico did not contribute importantly to worker separations.

The petitioners believe that the Department of Labor examined the incorrect product(s) produced by the subject firm. The petitioner states that they did not produce light gauge steel, but produced aluminum products.

A review of the data supplied by the company indicates that the firm produced light gauge aluminum sheet and foil products. The Department of Labor erred in the initial decision by referring to the products produced by the subject plant as light gauge steel and foil products. A review of the initial data supplied by the company and further analysis of the customer survey show that the Department investigated the correct products (light gauge aluminum sheet and foil products) produced by the Alcoa Lebanon Works plant.

The petitioner's also believe that the decisions should be based on steel production, exports and imports.

Imported steel into the United States is not relevant to the TAA and NAFTA investigations that were filed on behalf of workers producing light gauge aluminum sheet products and foil products. The product imported must be “like or directly” competitive with what the subject firm produced and the imports must “contribute importantly” to the layoffs at the subject plant to meet the eligibility requirements for adjustment assistance under Section 223 of the Trade Act of 1974.

Conclusion

After review of the application and investigative findings, I conclude that there has been no misinterpretation of the law or of the facts which would justify reconsideration of the Department of labor's prior decisions. Accordingly, the application is denied.

Signed at Washington, DC, this 9th day of January, 2003.
Edward a. Tomchick,
Director, Division of Trade Adjustment Assistance.

[FR Doc. 03-2545 Filed 2-3-03; 8:45 am]

BILLING CODE 4510-30-P